SMALL BUSINESS ADMINISTRATION

Committee Management; Notice of Renewal

The Administrator of the U.S. Small Business Administration (SBA) has determined that the renewal of the Regional Small Business Regulatory Fairness Boards is necessary and in the public interest in connection with the performance of duties imposed upon the Administrator, U.S. Small Business Administration by 15 U.S.C. 633. This determination follows consultation with the Management Secretariat, General Services Administration.

Name of Committee: Regional Small Business Regulatory Fairness Boards.

Purpose and Objective: The board reports on matters of concern to small businesses relating to the enforcement and compliance activities of agencies, substantiated instances of excessive enforcement or compliance actions of agencies against small businesses, and any findings or recommendations of the Board regarding agency enforcement policy or practice.

Balanced Membership Plans: Each of the 10 Regional boards has 5 members from that region, no more than 3 of which are from the same political party. Members must be owners, operators or officers of small businesses.

Duration: Continuing.

Responsible SBA Officials: Martin Gold, Deputy National Ombudsman, Office of the Ombudsman, U.S. Small Business Administration, 409 3rd Street, SW., Washington, DC 20416.

Dated: December 19, 2005.
Matthew K. Becker,
Committee Management Officer.

[FR Doc. 05-24455 Filed 12-23-05; 8:45 am]

BILLING CODE 8025-01-M